DEPARTMENT OF STATE

[Public Notice: 7008]

Shipping Coordinating Committee; Notice of Committee Meeting

The Shipping Coordinating Committee (SHC) will conduct an open meeting at 0930 on Wednesday July 22, 2010, in Room 51309 of the United States Coast Guard Headquarters Building, 2100 Second Street, SW., Washington, DC 20593-0001. The primary purpose of the meeting is to prepare for the fifty-sixth Session of the International Maritime Organization (IMO) Subcommittee on Safety of Navigation to be held at the IMO Headquarters, London, United Kingdom, from July 26 to July 30, 2010.

The primary matters to be considered include:

—Adoption of the agenda

—Decisions of other IMO bodies

—Routing of ships, ship reporting and related matters

—Guidelines for consideration of requests for safety zones larger than 500 meters around artificial islands, installations and structures in the EEZ

—Amendments to the Performance standards for Voyage Data Recorders (VDR) and Simplified VDR (S-VDR)

—Development of procedures for updating shipborne navigation and communications equipment

—International Telecommunication Union (ITU) matters, including Radiocommunication ITU-R Study Group 8

—Development of an e-navigation strategy implementation plan

—Guidelines on the layout and ergonomic design of safety centers on passenger ships

—Review of vague expressions in the International Convention for the Safety of Life at Sea (SOLAS) regulation V/22

—New symbols for AIS aids to navigation

—Amendments to the Worldwide Radionavigation System

—Review of the principles for establishing the safe manning level of ships including mandatory requirements for determining safe manning

—Amendments to the 1966 Loadline Convention (LL) and the 1988 LL Protocol related to seasonal zone

—Casualty analysis

—Consideration of International Association of Classification Societies (IACS) unified interpretations

Members of the public may attend this meeting up to the seating capacity of the room. To facilitate the building security process and to request reasonable accommodation, those who plan to attend should contact the meeting coordinator, Mr. Edward J. LaRue Jr., by e-mail at Edward.J.LaRue@uscg.mil, by phone at (202) 372-1564, by fax at (202) 372-1930, or in writing at Commandant (CG-5533), U.S. Coast Guard, 2100 2nd Street, SW., Stop 7581, Washington, DC 20593-7581, 7 days prior to the meeting. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: June 30, 2010.
Jon Trent Warner,
Executive Secretary, Shipping Coordinating Committee, Department of State.

[FR Doc. 2010-16516 Filed 7-6-10; 8:45 am]

BILLING CODE 4710-09-P